DEPARTMENT OF ENERGY

Federal Energy Regulatory Commission

[Docket No. RP03-618-000]

Midwestern Gas Transmission Company ; Notice of Proposed Changes in FERC Gas Tariff

October 2, 2003.

Take notice that on September 26, 2003, Midwestern Gas Transmission Company (Midwestern) tendered for filing to become part of Midwestern's FERC Gas Tariff, Third Revised Volume No. 1, the following tariff sheets to become effective November 1, 2003:

Second Revised Sheet No. 90

Original Sheet No. 100B

First Revised Sheet No. 90A

Second Revised Sheet No. 91

Original Sheet No. 100C

First Revised Sheet No. 91A

Original Sheet No. 91A.01

Second Revised Sheet No. 101

Second Revised Sheet No. 92

Third Revised Sheet No. 100

Second Revised Sheet No. 102

First Revised Sheet No. 100A

Fourth Revised Sheet No. 230B

Third Revised Sheet No. 266B

First Revised Sheet No. 266C

Midwestern states that the purpose it its filing is to: (1) Eliminate the OBA PAL Scheduling Penalty in Rate Schedule LMS-MA, (2) provide further clarification regarding the applicability of its Daily Imbalance Charge, and (3) clarify the procedures to be utilized to avoid penalty charges.

Midwestern states that it is not proposing any substantive changes to its remaining penalty provisions under Rate Schedules LMS-MA and LMS-PA, it is only seeking minor clarifications to more clearly articulate the applicability of the penalty provisions thereby minimizing any confusion and reducing the potential imposition of a penalty charge.

Midwestern states that copies of this filing have been sent to all of Midwestern's shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Comment Date: October 8, 2003.

Magalie R. Salas,
Secretary.

[FR Doc. E3-00021 Filed 10-8-03; 8:45 am]

BILLING CODE 6717-01-P